DEPARTMENT OF COMMERCE

National Oceanic and Atmospheric Administration

RIN 0648-XS65

New England Fishery Management Council; Public Meeting

AGENCY: National Marine Fisheries Service (NMFS), National Oceanic and Atmospheric Administration (NOAA), Commerce.

ACTION: Notice of a public meeting.

SUMMARY: The New England Fishery Management Council (Council) will hold a 3-day Council meeting on November 17-19, 2009, to consider actions affecting New England fisheries in the exclusive economic zone (EEZ).

DATES: The meeting will begin on Tuesday, November 17 at 8:30 a.m. and Wednesday and Thursday, November 18 and 19, beginning at 8 a.m.

ADDRESSES: The meeting will be held at the Hyatt Regency Newport, 1 Goat Island, Newport, RI 02840; telephone: (401) 851-1234; fax: (401) 846-7210.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, November 17, 2009

Following introductions and any announcements, the Council will discuss and approve its management priorities for 2010. The Scientific and Statistical Committee (SSC) Chairman will then present the results of the committee(s recent deliberations concerning Atlantic herring. At the request of the Council, the SSC was asked to revisit the size of the 40% buffer between the herring Overfishing Level and Acceptable Biological Catch to consider whether application of recent years retrospective difference of about 17% is sufficient to account for scientific uncertainty caused by retrospective patterns. Prior to a lunch break the Herring Committee will ask the Council to approve final recommendations for multi-year herring fishery specifications (2010-12). The specifications will address overfishing levels, acceptable biological catch, management uncertainty and, among other issues, the Total Allowable Catch and Annual Catch Limits for each of the four herring management areas. The Council also will receive an update on the development of catch monitoring alternatives to be included in Amendment 5 to the Atlantic Herring Fishery Management Plan (FMP) and based on the discussion, may restructure the alternatives. This and the previous herring agenda item will be discussed until the meeting adjourns at the end of the afternoon.

Wednesday, November 18, 2009

The second day of the Council meeting will begin with a review and approval of final measures for inclusion in Framework 21 to the Atlantic Sea Scallop FMP. Measures under consideration for implementation in the 2010 fishing year will address compliance with a reasonable and prudent alternative provided in the most recent NMFS Biological Opinion for the FMP regarding sea turtle interactions, fishery specifications for both limited access and general category fleets, area rotation adjustments, and other measures. The Council also will review preliminary analyses concerning the potential impacts of various yellowtail flounder allocation alternatives on the scallop fishery. The allocation is being considered in a specifications package for the groundfish fishery for fishing years 2010-12.

The Groundfish Committee will ask the Council to approve Framework Adjustment 44 to the Northeast Multispecies FMP. The action is intended to include the specification of annual catch limits for fishing years 2010-12,and the yellowtail flounder sub-components for the scallop fishery. The Council also will address modifications to the groundfish common pool effort control measures such as trip limits or differential days-at-sea counting in order to meet the Council's fishing mortality targets for several groundfish stocks.

Thursday, November 19, 2009

The Council will begin the last day of the meeting with a series of brief reports from the Council Chairman and Executive Director, the NOAA Fisheries Northeast Regional Administrator, Northeast Fisheries Science Center and Mid-Atlantic Fishery Management Council liaisons, NOAA General Counsel, representatives of the U.S. Coast Guard and the Atlantic States Marine Fisheries Commission, as well as NOAA Enforcement. These reports will be followed by a review of any experimental fishery permit applications that have been received since the last Council meeting. The Council will also approve final recommendations for 2010 specifications for the red crab fishery. The discussion will include a review of the Red Crab Plan Development Team's analyses; the specifications will address acceptable biological catch based on the recommendation of the Council's SSC. Following a lunch break, the Council will accept public comments on issues related to fisheries management issues, but not listed on the meeting agenda. During the afternoon session, the Council plans to approve draft measures to be included in Amendment 5 to the Monkfish FMP. Issues to be considered will include annual catch limits, accountability measures, trip limits and days-at-sea for 2011-13. Following Council approval, the amendment and accompanying documents will be made available for public review and comment. The day will conclude with a review and possible development of Council positions on bluefin tuna and swordfishh management. Before adjournment, the Council may address any other outstanding business related to this meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 27, 2009.
Tracey L. Thompson,
Acting Director, Office of Sustainable Fisheries, National Marine Fisheries Service.

[FR Doc. E9-26189 Filed 10-29-09; 8:45 am]

BILLING CODE 3510-22-S